DEPARTMENT OF AGRICULTURE

Forest Service

Crooked Creek Reservoir Repair; White River National Forest, Eagle County, CO

AGENCY: Forest Service, USDA.

ACTION: Cancellation notice.

SUMMARY: On May 2, 2008, a Notice of Intent (NOT) to prepare an environmental impact statement (ElS) for the Crooked Creek Reservoir Repair project on the Sopris Ranger District of the White River National Forest was published in the Federal Register (86 FR 24215). The Forest Service has decided to cancel the preparation of this EIS. The NOT is hereby rescinded.

FOR FURTHER INFORMATION CONTACT: Cary Pence, Forest Engineer, White River National Forest, 900 Grand Avenue, Glenwood Springs, CO 81602, (970) 945-3235.

Dated: September 2, 2010.
Scott G. Fitzwilliams,
Forest Supervisor.

[FR Doc. 2010-22687 Filed 9-10-10; 8:45 am]

BILLING CODE M